NATIONAL SCIENCE FOUNDATION

Agency Information Collection Activities: Comment Request

AGENCY: National Science Foundation (NSF).

ACTION: Submission for OMB Review; Comment Request and Final Notice of a Uniform Research Performance Progress Report (RPPR) format.

SUMMARY: Effective with publication of this Notice in the Federal Register, agencies will be able to utilize a new uniform format for reporting performance progress on Federally-funded research projects. The Research Performance Progress Report (RPPR) will directly benefit award recipients by making it easier for them to administer Federal grant and cooperative agreement programs through standardization of the types of information required in interim performance reports—thereby reducing their administrative effort and costs. The RPPR will also make it easier to compare the outputs, outcomes, etc. of research programs across the government.

The RPPR resulted from an initiative of the Research Business Models (RBM) Subcommittee of the Committee on Science (CoS), a committee of the National Science and Technology Council (NSTC). One of the RBM Subcommittee's priority areas is to create greater consistency in the administration of Federal research awards. Given the increasing complexity of interdisciplinary and interagency research, it is important for Federal agencies to manage awards in a similar fashion. Upon implementation, the RPPR will be used by agencies that support research and research-related activities for use in submission of interim progress reports. It is intended to replace other interim performance reporting formats currently in use by agencies. The RPPR does not change the performance reporting requirements specified in 2 CFR part 215 (OMB Circular A-110) and the Common Rule implementing OMB Circular A-102.

Each category in the RPPR is a separate reporting component. Agencies will direct recipients to report on the one mandatory component (“Accomplishments”), and also may direct them to report on optional components, as appropriate. Within a particular component, agencies may direct recipients to complete only specific questions, as not all questions within a given component may be relevant to all agencies. Agencies may develop an agency- or program-specific component, if necessary, to meet programmatic requirements, although agencies should minimize the degree to which they supplement the standard components. Such agency- or program-specific requirements will require review and clearance by OMB.

Agencies also may use other OMB-approved reporting formats, such as the Performance Progress Report (PPR), if those formats are better suited to the agency's reporting requirements, for example, for research centers/institutes, clinical trials, or fellowship/training awards or in connection to reporting on program performance, through mechanisms such as the Performance Assessment Rating Tool.

On behalf of the RBM Subcommittee, the National Science Foundation (NSF) has agreed to serve as sponsor of this new format. We anticipate this being the final notice before the format and instructions are finalized. The general public and Federal agencies, however, are invited to comment on the proposed final format during the 30 day public comment period. The Government-wide RPPR is posted on the NSF Web site at: http://www.nsf.gov/bfa/dias/policy/rppr/index.jsp.

Comments: In compliance with the requirement of section 3506(c)(2)(A) of the Paperwork Reduction Act of 1995, the National Science Foundation is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

DATES: Comments must be received by February 12, 2010.

ADDRESSES: Comments should be addressed to Suzanne H. Plimpton, Reports Clearance Officer, Division of Administrative Services, National Science Foundation, 4201 Wilson Blvd, Arlington, VA 22230, e-mail splimpton@nsf.gov; telephone: (703) 292-7556; fax: (703) 292-9188. Individuals who use a telecommunications device for the deaf (TDD) may call the Federal Information Relay Service (FIRS) at 1-800-877-8339, which is accessible 24 hours a day, 7 days a week, 365 days a year (including Federal holidays.

We encourage respondents to submit comments electronically to ensure timely receipt. We cannot guarantee that comments mailed will be received before the comment closing date. Please include “Research Performance Progress Reporting” in the subject line of the e-mail message; please also include the full body of your comments in the text of the message, and as an attachment. Include your name, title, organization, postal address, telephone number, and e-mail address in your message.

FOR FURTHER INFORMATION CONTACT: For information on the RPPR, contact Jean Feldman; Head, Policy Office, Division of Institution & Support; National Science Foundation; 4201 Wilson Blvd; Arlington, VA 22230; e-mail: jfeldman@nsf.gov; telephone: (703) 292-8243; fax: (703) 292-9171.

For further information on the NSTC RBM Subcommittee, contact Diane DiEuliis, at the Office of Science and Technology Policy, 725 17th Street, NW., Washington, DC 20503; e-mail: ddieuliis@ostp.eop.gov; telephone: 202-456-6059; fax: 202-456-6027. See also the RBM Subcommittee's Web site: http://rbm.nih.gov.

SUPPLEMENTARY INFORMATION:

I. Background and Purpose of Today's Federal Register Notice

This project is an initiative of the Research Business Models (RBM) Subcommittee of the Committee on Science (COS), a committee of the National Science and Technology Council (NSTC). The RBM Subcommittee's objectives include:

• Facilitating a coordinated effort across Federal agencies to address policy implications arising from the changing nature of scientific research; and

• Examining the effects of these changes on business models for the conduct of scientific research sponsored by the Federal government.

The Subcommittee used public comments, agency perspectives, and input from a series of regional public meetings to identify priority areas on which it would focus its initial efforts. In each priority area, the Subcommittee is pursuing initiatives to promote, as appropriate, common policy, streamlining of current procedures, or the identification of agencies' and institutions' “best practices.” As further information about initiatives becomes available, it will be posted at the Subcommittee's Web site at: http://rbm.nih.gov.

One of the RBM Subcommittee's priority areas is greater uniformity in the form and content of performance reports that are required by Federal grants and cooperative agreements awarded under research programs. Many Federal agencies have their own forms or formats that recipients must use to report progress on activities supported by research awards. While agencies use different formats and different language to request information on progress, they generally collect similar information. These variations increase the administrative effort and costs for recipients of Federal awards, and make it difficult to compare the outputs, outcomes, etc., of research programs across the government. The RPPR format will increase uniformity of content across Federal research agencies.

The RBM Subcommittee reviewed forms and formats currently in use by Federal agencies for reporting performance on research grants. The reporting categories used by the NSF were selected as a starting point for designing a standard format, as hundreds of NSF research programs have used these categories successfully. The RPPR does not change the performance reporting requirements specified in 2 CFR part 215 (OMB Circular A-110) and the Common Rule implementing OMB Circular A-102; it merely provides additional clarification, instructions, and a standard format for collecting the information.

The RPPR is intended for use in submission of interim progress reports, not for use in submission of final reports, and it is intended to replace other formats currently in use by agencies supporting research and research-related activities. The RBM Subcommittee plans to undertake development of a final Research Performance Progress Report format upon completion of the interim RPPR exercise. The RPPR addresses progress for the most recently completed period, at the frequency required or designated by the sponsoring agency. Information, once reported, may not have to be provided again on subsequent reports, if an agency has implemented an electronic solution for submission of progress reports. However, upon implementation, agencies may use this format in either paper copy or in electronic form.

The National Science Foundation (NSF), on behalf of the National Science and Technology Council's Research Business Models Subcommittee, proposed the draft RPPR for comment in the Federal Register [Volume 72, pages 63629-63631, November 9, 2007]. 347 public comments were received from a wide variety of respondents, including six institutions of higher education; three associations of academic and nonprofit institutions; components of six Federal agencies; and one individual. All comments were carefully considered in developing a final version of the RPPR. The majority of public comments strongly supported the overall proposal to create a government-wide standard RPPR, citing the advantages of increased consistency in Federal agencies' reporting requirements. A number of specific issues were raised, and those comments and responses are summarized in Section II.

Each category in the RPPR is a separate reporting component. Agencies will direct recipients to report on the one mandatory component (“Accomplishments”), and may also direct them to report optional components, as appropriate. Recipients will not be required or expected to report on each of the questions or items listed under a particular category. They will be advised to state “Nothing to Report” if they have nothing significant to report during the reporting period. Within a particular component, agencies also may direct recipients to complete only specific questions, as not all questions within a given component may be relevant to all agencies.

Agencies will utilize the standard instructions that have been developed for each category, but may provide additional program-specific instructions necessary to clarify a requirement for a particular program. For example, the Environmental Protection Agency (EPA) is required to collect information on environmental impacts; so EPA can direct recipients to report on the research's benefit to the environment or human health under the following reporting question: “How has the project contributed to society beyond science and technology?”

Agencies may develop additional agency- or program-specific reporting components and instructions (e.g., the National Institutes of Health may need to collect information on clinical trials in certain types of awards); however, to maintain maximum uniformity, agencies will be instructed to minimize the degree to which they supplement the standard categories. Such agency- or program-specific requirements will require review and clearance by OMB.

Agencies also may use other OMB-approved reporting formats, such as the Performance Progress Report (PPR), if those formats are better suited to the agency's reporting requirements, for example, for research centers/institutes, clinical trials, or fellowship/training awards or in connection to reporting on program performance, through mechanisms such as the Performance Assessment Rating Tool.

II. Comments, Responses, and Changes to the Research Performance Progress Report Format

The following are the comments, and associated responses, resulting from the November 9, 2007 Federal Register Notice.

Comment: Four Federal and six university commenters questioned the process for development and implementation of the RPPR.

Response: When the RBM Working Group was initially formed in 2004, it examined existing research progress reports with the intent of standardizing the reporting requirements across agencies. Once a draft was developed, the RPPR Working Group requested comments and modified the format based on the comments. Once final, NSF (on behalf of the National Science and Technology Council's Research Business Models subcommittee) will send the RPPR to OMB for clearance as part of the Paperwork Reduction Act (PRA) process. The RPPR Working Group will develop guidance and training as part of the implementation.

Comment: Nine Federal commenters requested additional data elements associated with project budgets.

Response: Agree. A new, optional “Budget” section of the format was created.

Comment: Six Federal commenters requested additional data elements to comply with agency special reporting requirements on things such as clinical trials.

Response: Agree. An optional “Special reporting requirements” section of the format was added.

Comment: One Federal commenter requested the addition of a data element capturing changes in project/performance site.

Response: Agree. A “Change of primary performance site location” data element was added.

Comment: Five Federal commenters requested the inclusion of contact information and signature for the authorized official submitting the report, as well as date of submission.

Response: Agree. Data elements to capture the electronic or hard copy signature and contact information of the authorized official and date of submission were added and are expected to be captured as part of the electronic implementation solution.

Comment: 60 Federal commenters requested additional data elements to meet agency-specific requirements.

Response: No change. The information is either already captured in the report, or the proposed data element would go beyond the scope of the report, potentially increasing grantee burden and confusing users. Agencies may pursue developing agency-specific requirements through OMB. However, every attempt was made to minimize the need for agency-specific requirements.

Comment: Seven Federal commenters expressed concern that the format would not be adequate for an agency's reporting requirements, especially in regards to reporting on PART.

Response: Agencies may consider using the Performance Progress Report (PPR) in lieu of the RPPR. The PPR has a specific section for reporting on the Program Assessment Rating Tool. Agencies also may pursue developing agency-specific requirements through OMB.

Comment: 29 Federal, nine university, and four association commenters noted the use of current agency data collection systems and the need to develop a new, electronic, web-based solution for research performance progress reporting.

Response: All electronic system implementation comments received in response to the Federal Register Notice will be forwarded to the Grants Executive Board and the Grants Management Line of Business for dissemination to appropriate agency contacts for further consideration However, upon implementation, agencies may use this format in either paper copy or in electronic form.

Comment: One Federal and five university commenters suggested that agencies be able to pre-populate the report with data from the grants.gov application.

Response: The information collected on Grants.gov and in grant applications would not be appropriate for the RPPR because the information often changes between application and award.

Comment: One Federal commenter requested the development of a standard taxonomy for types of projects.

Response: Keeping an updated list would be extremely time consuming and difficult. However, if an agency or group develops a standardized taxonomy, the RPPR Working Group will consider incorporating this taxonomy in a future update to the format.

Comment: Four Federal commenters suggested page and word limits for report responses.

Response: This is a format, not a form. Agencies can define page and word limits when appropriate.

Comment: 48 Federal and six university commenters requested clarifications regarding the type of data requested and the purpose of each section in the instructions.

Response: Agree. The instructions were amended to clarify the type of data requested and the purpose of each section, where necessary.

Comment: Ten Federal commenters questioned the broad applicability and order of the proposed format.

Response: The RPPR is intentionally broad to create maximum flexibility, allowing agencies to use it for all research and research-related programs. The standardized instructions were developed to ensure consistency across agencies wherever possible. There is no prescribed order to the format because the order will depend on which sections an agency determines to be mandatory.

Comment: Four Federal and five association commenters questioned the intent of and need for the demographic information in the “Participants” section.

Response: The demographics information being requested is based on government-wide standard categories currently in use on a variety of forms. The demographics being requested only pertain to the people who have directly worked on the award. This section is optional and if another institution has regulations preventing its reporting, the award recipient may choose not to provide such data. While demographic data will be used by agencies for data analysis and reporting, it will not be used by agencies as part of the progress report evaluation.

Comment: Six Federal and one association commenters requested a clearer indication of which paid persons an award recipient should report on and clarification of `person months' in the “Participants” section.

Response: Agree. Language was added to the instructions.

Comment: Three Federal and one university commenters proposed the use of “None” or “Nothing to report” vs. allowing an award recipient to leave a box blank.

Response: Agree. “Nothing to report” is more accurate and was added. A blank field could represent “nothing to report” or a spot that the awardee forgot to fill in.

Comment: Eight Federal, four university, and two association commenters expressed concern about the potential burden the report might create.

Response: The burden was carefully considered during the development of the RPPR. Depending on how it is implemented by each agency, the RPPR may request more extensive data than are currently collected; but both agencies and award recipients will receive better information. As with any standardization effort, there may be a short term burden increase in order to produce a long-term gain. Finally, while there may be additional burden on the first report for the project, assuming an electronic solution, the next form could potentially be pre-populated with information that carries over, leading to a burden reduction.

Comment: Four Federal commenters noted apparent redundancy of data elements across different sections of the report.

Response: Each section captures different types of data. Any apparent redundancy is intentional to ensure agencies using only a select few of the optional sections capture the necessary data.

Comment: One Federal commenter questioned the need for invention, patent, and license information, since it is already captured elsewhere by many agencies.

Response: The purpose of this section is to provide the agency program officer with a record of all that has occurred within the reporting period, including patents.

Comment: 26 Federal, four university, and two association commenters questioned the distinction between the mandatory and optional sections of the form.

Response: Only the “Accomplishments” component of the RPPR format is mandatory, while the other components are for optional use at the discretion of the agencies. The Federal awarding agency determines which categories are mandatory or optional for the award recipient to complete. This should be determined as early as possible, preferably at the time the funding opportunity is issued. As information required can vary between agencies and programs, the combination of mandatory and optional sections provides agencies the maximum flexibility to collect only the information they specifically require.

Comment: One Federal commenter asked whether the RPPR would be required in addition to the PHS 2590.

Response: The RPPR would replace the PHS 2590. Information not collected as part of the RPPR could be requested through the optional agency-specific categories.

Comment: Three Federal commenters asked for a clear definition of research—which programs are considered research or research-related programs?

Response: It is up to the agencies to determine which programs are research or research-related programs.

Comment: Four Federal and one university commenters requested language stating that the RPPR should not be used as the vehicle for seeking prior approvals and/or fulfilling invention reporting requirements.

Response: Agree. Appropriate language was added to the RPPR.

Comment: 25 Federal, five university, and one association commenters offered suggestions regarding the development of a Final Report format.

Response: These comments will be considered after the development and implementation of the RPPR has been completed.

III. Paperwork Reduction Act

In furtherance of the goals of the National Science and Technology Council's Research Business Models Subcommittee, this proposed format aims to reduce the burden on recipients currently expending time and effort on a variety of agency-specific forms. Under the PRA, OMB assigns a control number to each “collection of information” that it reviews and approves for use by an agency. An agency may not conduct or sponsor, and a person is not required to respond to, a collection of information unless the collection of information displays a valid OMB Control Number. The PRA also requires agencies to estimate the burden for each collection of information. It should be noted that burden estimates associated with forms currently in use range from a minimum of 2 hours to a maximum of 16 hours, depending on the type of research project being supported.

The following table provides the estimated numbers of annual progress reports, hours per report, and total annual burden hours by agency:

Department/agency name | Number of annual progress reports | Number of annual burden hours | Total annual burden hours
DHHS (including NIH) | 37,900 | 14.862 | 563,275
DHS | 411 | 12 | 4,932
DoC/NIST | 100 | 4 | 400
DoC/NOAA | 1,105 | 2 | 2,210
DoD | 11,000 | 6 | 66,000
DoE | 16,000 | 5 | 80,000
DoEd/IES | 500 | 16 | 8,000
EPA | 150 | 4 | 600
NASA | 4,000 | 4 | 16,000
NEH | 55 | 2 | 1,100
NSF | 28,030 | 5 | 140,150
USDA/NIFA | 12,658 | 2.7 | 34,177
Totals | 116,404 | 6.6 | 916,844

IV. Final Administrative Requirements and Future Steps

The final version of the uniform Research Performance Progress Report format that incorporates the changes discussed in the preceding Sections I and II of Supplementary Information, may be viewed at: http://www.nsf.gov/bfa/dias/policy/rppr/index.jsp.

Each Federal research agency that supports research and research-related activities must post their policy or an implementation plan on the NSF and RBM Web sites within nine months after issuance of OSTP/OMB policy direction. Each implementation plan will address whether the agency plans to implement the RPPR in paper or electronic format, and include an anticipated implementation date.

Dated: January 8, 2010.
Suzanne H. Plimpton,
Reports Clearance Officer, National Science Foundation.

[FR Doc. 2010-469 Filed 1-12-10; 8:45 am]

BILLING CODE 7555-01-P